DEPARTMENT OF HOMELAND SECURITY

Federal Emergency Management Agency

44 CFR Part 67

[Docket ID FEMA-2008-0020; Internal Agency Docket No. FEMA-B-1071]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents and others to calculate appropriate flood insurance premium rates for new buildings and the contents in those buildings.

DATES: Comments are to be submitted on or before December 14, 2009.

ADDRESSES: The corresponding preliminary Flood Insurance Rate Map (FIRM) for the proposed BFEs for each community is available for inspection at the community's map repository. The respective addresses are listed in the table below.

You may submit comments, identified by Docket No. FEMA-B-1071, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Pickens County, Alabama, and Incorporated Areas
Big Ditch | Approximately 1,317 feet upstream of the confluence with Tributary 1 | None | +163 | Unincorporated Areas of Pickens County.
| Approximately 1.1 mile upstream of the confluence with Tributary 1 | None | +174
Little Bear Creek | Approximately 0.8 miles downstream of U.S. Highway 82 | None | +235 | Unincorporated Areas of Pickens County.
| Approximately 1 mile upstream of First Avenue | None | +262
Long Creek | Approximately 845 feet upstream of First Avenue | None | +254 | Unincorporated Areas of Pickens County.
| Approximately 1,123 feet upstream of First Avenue | None | +255
Lubbub Creek | Approximately 0.9 miles downstream of U.S. Highway 82 | None | +220 | Unincorporated Areas of Pickens County.
| Approximately 1,292 feet upstream of U.S. Highway 82 | None | +227
Stream 2 | Approximately 1,375 feet downstream of the confluence with Stream 3 | None | +196 | Unincorporated Areas of Pickens County.
| Approximately 1,300 feet downstream of the confluence with Stream 3 | None | +196
Tombigbee River | Approximately 1.4 miles downstream of the confluence with Beaver Creek | None | +144 | City of Memphis.
| Approximately 0.9 miles downstream of the confluence with Beaver Creek | None | +144
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Memphis
Maps are available for inspection at 128 Memphis Circle, Aliceville, AL 35442.
Unincorporated Areas of Pickens County
Maps are available for inspection at Judicial Center, 20 Phoenix Avenue, Room 102, Carrollton, AL 35447.
Holmes County, Florida, and Incorporated Areas
Bay Branch | Approximately 1,922 feet upstream of the confluence with West Pittman Creek | None | +80 | Unincorporated Areas of Holmes County.
| Approximately 1.5 miles upstream of the confluence with West Pittman Creek | None | +80
Blue Creek | Just downstream of Valee Road | None | +74 | Unincorporated Areas of Holmes County.
| Approximately 1.9 miles upstream of Jack Johnson Road | None | +88
Camp Branch | Approximately 670 feet downstream of Bonifay Chipley Road | None | +87 | Unincorporated Areas of Holmes County, City of Bonifay.
| Approximately 364 feet upstream of N. Waukesha Street | None | +122
Camp Branch Tributary 1 | Approximately 1,216 feet downstream of Joe White Road | None | +87 | Unincorporated Areas of Holmes County, City of Bonifay.
| Approximately 1,047 feet upstream of Industrial Drive | None | +124
Caney Branch | Approximately 1,725 feet upstream of the confluence with Wrights Creek | None | +68 | Unincorporated Areas of Holmes County.
| Approximately 0.9 miles upstream of the confluence with Wrights Creek | None | +68
Cow Branch | Approximately 1,232 feet downstream of Ammons Road | None | +70 | Unincorporated Areas of Holmes County, Town of Ponce De Leon.
| Approximately 0.4 miles upstream of Grant Road | None | +92
Cow Branch Tributary 1 | At the confluence with Cow Branch | None | +82 | Unincorporated Areas of Holmes County, Town of Ponce De Leon.
| Approximately 0.7 miles upstream of Grant Road | None | +153
Hathaway Mill Creek | Just downstream of Hathaway Mill Road | None | +63 | Unincorporated Areas of Holmes County.
| Approximately 0.4 miles upstream of Hathaway Mill Road | None | +63
Merrill Branch | At the confluence with Bay Branch | None | +80 | Unincorporated Areas of Holmes County.
| Approximately 0.8 miles upstream of the confluence with Bay Branch | None | +80
Mill Creek | Approximately 1,492 feet downstream of Jack Brown Drive | None | +59 | Unincorporated Areas of Holmes County, Town of Ponce De Leon.
| Approximately 735 feet downstream of Jack Brown Drive | None | +76
Old Creek | Just downstream of R.M. Ward Road | None | +59 | Town of Westville.
| Approximately 0.6 miles upstream of R.M Ward Road | None | +59
Parrot Creek | Just upstream of Rum Road | None | +88 | Unincorporated Areas of Holmes County.
| At the confluence with Hand Branch | None | +88
Sandy Creek | Approximately 200 feet downstream of County Highway 81A | None | +84 | Unincorporated Areas of Holmes County.
| Approximately 1.5 miles upstream of County Highway 183A | None | +102
Unnamed Tributary to Bay Branch | At the confluence with Bay Branch | None | +80 | Unincorporated Areas of Holmes County.
| Approximately 0.8 miles upstream of the confluence with Bay Branch | None | +80
West Pittman Creek | Just downstream of County Highway 179A | None | +80 | Unincorporated Areas of Holmes County.
| Approximately 1,454 feet upstream of County Highway 179A | None | +80
Wrights Creek | Just downstream of Adolph Whitaker Road | None | +88 | Unincorporated Areas of Holmes County.
| Approximately 1.9 miles upstream of Bush Road | None | +148
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Bonifay
Maps are available for inspection at City Hall, 301 J. Harvey Ethridge Street, Bonifay, FL 32425.
Town of Ponce De Leon
Maps are available for inspection at the Town Hall, 1580 Highway 90, Ponce De Leon, FL 32455.
Town of Westville
Maps are available for inspection at the Town Hall, 2523 North Pine Street, Westville, FL 32464.
Unincorporated Areas of Holmes County
Maps are available for inspection at the Chamber of Commerce, 106 East Byrd Avenue, Bonifay, FL 32425.
Johnson County, Kentucky, and Incorporated Areas
Big Mine Fork (Backwater effects from Paintsville Lake) | From confluence with Paintsville Lake to approximately 1 mile upstream of confluence with Paintsville Lake | None | +730 | Unincorporated Areas of Johnson County.
Colvin Branch (Backwater effects from Paintsville Lake) | From confluence with Paintsville Lake to approximately 1,700 feet upstream of confluence with Paintsville Lake | None | +730 | Unincorporated Areas of Johnson County.
Left Fork Blaine Creek | Just downstream of confluence with Keaton Fork | None | +690 | Unincorporated Areas of Johnson County.
| Approximately 150 feet upstream of KY-469 | None | +691
Little Mine Fork (Backwater effects from Paintsville Lake) | From confluence with Big Mine Fork to approximately 1,100 feet upstream of confluence with Big Mine Fork | None | +730 | Unincorporated Areas of Johnson County.
Little Paint Creek (Backwater effects from Paintsville Lake) | From confluence with Paintsville Lake to approximately 1.3 miles upstream of confluence with Paintsville Lake | None | +730 | Unincorporated Areas of Johnson County.
Paintsville Lake | Entire shoreline of Paintsville Lake | None | +730 | Unincorporated Areas of Johnson County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Johnson County
Maps are available for inspection at 908 3rd Street, Paintsville, KY 41240.
Beauregard Parish, Louisiana, and Incorporated Areas
Cowpen Creek | Just downstream of Graybow Road | +175 | +174 | Unincorporated Areas of Beauregard Parish.
| Approximately 0.9 miles upstream of Sunset Lane | +197 | +196
Hickory Branch Creek | Approximately 0.7 miles downstream of Mays Street | +161 | +160 | Unincorporated Areas of Beauregard Parish, City of Deridder.
| Approximately 1300 feet upstream of Park Road | +174 | +173
Palmetto Creek | Just upstream of Highway 171 | +132 | +131 | Unincorporated Areas of Beauregard Parish, City of Deridder.
| Just downstream of Highway 190 | +181 | +180
Unnamed Tributary of Cowpen Creek | At the confluence with Cowpen Creek | +193 | +192 | Unincorporated Areas of Beauregard Parish.
| Approximately 0.4 miles upstream of Country Lane | +193 | +192
* National Geodetic Vertical Datum.
+ North American Vertical Datum.
# Depth in feet above ground.
‸ Mean Sea Level, rounded to the nearest 0.1 meter.
* BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Deridder
Maps are available for inspection at 200 South Jefferson Street, Deridder, LA 70634.
Unincorporated Areas of Beauregard Parish
Maps are available for inspection at 201 West 2nd Street, Deridder, LA 70634.
Pontotoc County, Oklahoma, and Incorporated Areas
Clear Boggy Creek | Approximately 990 feet downstream of Highway 377 | None | +817 | Unincorporated Areas of Pontotoc County, City of Ada.
| Approximately 400 feet downstream of Stonecipher Boulevard | None | +819
Little Sandy Creek | Approximately 900 feet downstream of North 3570 Road | None | +916 | Unincorporated Areas of Pontotoc County, City of Ada.
| Approximately 528 feet upstream of Constant Avenue | +982 | +984
Town Branch | Approximately 1,500 feet downstream of North 3700 Road | None | +822 | Unincorporated Areas of Pontotoc County, Town of Allen.
| Approximately 1,550 feet upstream of East B Street | None | +852
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Ada
Maps are available for inspection at 231 South Townsend Street, Ada, OK 78420.
Town of Allen
Maps are available for inspection at 109 North Memphis Street, Allen, OK 78425.
Unincorporated Areas of Pontotoc County
Maps are available for inspection at 120 West 13th Street, Ada, OK 74821.

(Catalog of Federal Domestic Assistance No. 97.022, “Flood Insurance.”)

Edward L. Connor,
Acting Deputy Assistant Administrator for Mitigation, Mitigation Directorate, Department of Homeland Security, Federal Emergency Management Agency.

[FR Doc. E9-22106 Filed 9-14-09; 8:45 am]

BILLING CODE 9110-12-P